ENVIRONMENTAL PROTECTION AGENCY

40 CFR Part 271

[EPA-R02-RCRA-2013-0144; FRL-9693-3]

New York: Final Authorization of State Hazardous Waste Management Program Revisions

AGENCY: Environmental Protection Agency (EPA).

ACTION: Proposed rule.

SUMMARY: New York State has applied to EPA for final authorization of changes to its hazardous waste program under the Solid Waste Disposal Act, as amended, commonly referred to as the Resource Conservation and Recovery Act (RCRA). EPA proposes to grant final authorization to New York for these changes, with limited exceptions. EPA has determined that these changes satisfy all requirements needed to qualify for final authorization, and is authorizing the state's changes through a direct final action.

DATES: Comments must be received on or before April 10, 2013.

ADDRESSES: Submit your comments, identified by Docket ID No. EPA-R02-RCRA-2013-0144, by one of the following methods:

• http://www.regulations.gov. Follow the on-line instructions for submitting comments.

• Email: infurna.michael@.epa.gov.

• Fax: (212) 637-4437, to the attention of Michael Infurna.

• Mail: Michael Infurna, EPA, Region 2, 290 Broadway, 22nd Floor, New York, NY 10007.

• Hand Delivery or Courier: Deliver your comments to: Michael Infurna, EPA, Region 2, 290 Broadway, 22nd Floor, New York, NY 10007. Such deliveries are only accepted during the Regional Office's normal hours of operation. The public is advised to call in advance to verify the business hours. Special arrangements should be made for deliveries of boxed information.

For further information on how to submit comments, please see today's direct final rule published in the “Rules and Regulations” section of this Federal Register.

FOR FURTHER INFORMATION CONTACT: Michael Infurna, EPA Region 2, 290 Broadway, 22nd floor, New York, NY 10007; telephone number (212) 637-4177; fax number: (212) 637-4437; email address: infurna.michael@.epa.gov.

SUPPLEMENTARY INFORMATION: In the “Rules and Regulations” section of this Federal Register notice, EPA is authorizing the changes by a direct final rule. EPA did not make a proposal prior to the direct final rule because we believe this action is not controversial and do not expect comments that oppose it. We have explained the reasons for this authorization in the preamble to the direct final rule. Unless we receive adverse written comments which oppose this authorization during the comment period, the direct final rule will become effective on the date it establishes, and we will not take further action on this proposal. If we receive comments that oppose this action, we will either withdraw the direct final rule or the portion of the direct final rule that is the subject of the comments. Only the remaining portion of the rule will take effect. We will then respond to those public comments opposing this authorization in a later final authorization notice based on this proposal. This final authorization notice may or may not include changes based on comments received during the public notice comment period. You may not have another opportunity for comment. If you want to comment on this action, you should do so at this time.

Dated: December 19, 2012.
Judith A. Enck,
Regional Administrator, Region 2.

[FR Doc. 2013-05479 Filed 3-8-13; 8:45 am]

BILLING CODE 6560-50-P